DEPARTMENT OF JUSTICE

Antitrust Division

Notice Pursuant to the National Cooperative Research and Production Act of 1993—Members of SGIP 2.0, Inc.

Notice is hereby given that, on April 12, 2016, pursuant to Section 6(a) of the National Cooperative Research and Production Act of 1993, 15 U.S.C. 4301 et seq. (“the Act”), Members of SGIP 2.0, Inc. (“MSGIP 2.0”) have filed written notifications simultaneously with the Attorney General and the Federal Trade Commission disclosing changes in its membership. The notifications were filed for the purpose of extending the Act's provisions limiting the recovery of antitrust plaintiffs to actual damages under specified circumstances. Specifically, Machfu, Germantown, MD; OPC Foundation, Mantua, OH; Smarter Grid Solutions, Brooklyn, NY; Korea Electrotechnology Research Institute, Gyeongsangnam-do, REPUBLIC OF KOREA; Hitachi Consulting, Dallas, TX; and National Grid USA, Waltham, MA, have been added as parties to this venture.

Also, Hydro-Quebec, Montreal, CANADA; Valley View Corporation, Rockville, MD; Michigan Public Service Commission, Lansing, MI; WiMAX Forum, Portland, OR; Lakeview Consulting Group, Morgan Hill, CA; Buford Goff & Associates, Inc., Columbia, SC; Qualcomm Technologies, Inc., San Diego, CA; Z-Wave Alliance, Milpitas, CA; Wells Fargo, San Francisco, CA; Cetecom, Milpitas, CA; JKN Consulting, Scotts Valley, CA; Energy Central, Aurora, CO; and Jamaica Public Service Company Ltd., Kingston 5, JAMAICA, have withdrawn as parties to this venture.

No other changes have been made in either the membership or planned activity of the group research project. Membership in this group research project remains open, and MSGIP 2.0 intends to file additional written notifications disclosing all changes in membership.

On February 5, 2013, MSGIP 2.0 filed its original notification pursuant to Section 6(a) of the Act. The Department of Justice published a notice in the Federal Register pursuant to Section 6(b) of the Act on March 7, 2013 (78 FR 14836).

The last notification was filed with the Department on January 14, 2016. A notice was published in the Federal Register pursuant to Section 6(b) of the Act on February 26, 2016 (81 FR 9883).

Patricia A. Brink,
Director of Civil Enforcement, Antitrust Division.

[FR Doc. 2016-11737 Filed 5-17-16; 8:45 am]

BILLING CODE P